SMALL BUSINESS ADMINISTRATION

[Disaster Declaration #17299 and #17300; COLORADO Disaster Number CO-00136]

Presidential Declaration of a Major Disaster for the State of Colorado

AGENCY: U.S. Small Business Administration.

ACTION: Notice.

SUMMARY: This is a Notice of the Presidential declaration of a major disaster for the State of Colorado (FEMA-4634-DR), dated 12/31/2021.

Incident: Wildfires and Straight-line Winds.

Incident Period: 12/30/2021 and continuing.

DATES: Issued on 12/31/2021.

Physical Loan Application Deadline Date: 03/01/2022.

Economic Injury (EIDL) Loan Application Deadline Date: 09/30/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 12/31/2021, applications for disaster loans may be filed at the address listed above or other locally announced locations. The following areas have been determined to be adversely affected by the disaster:

Primary Counties (Physical Damage and Economic Injury Loans): Boulder.

Contiguous Counties (Economic Injury Loans Only):

Colorado: Broomfield, Gilpin, Grand, Jefferson, Larimer, Weld.

The Interest Rates are:

| Percent
For Physical Damage:
Homeowners with Credit Available Elsewhere | 2.875
Homeowners without Credit Available Elsewhere | 1.438
Businesses with Credit Available Elsewhere | 5.660
Businesses without Credit Available Elsewhere | 2.830
Non-Profit Organizations with Credit Available Elsewhere | 1.875
Non-Profit Organizations without Credit Available Elsewhere | 1.875
For Economic Injury:
Businesses & Small Agricultural Cooperatives without Credit Available Elsewhere | 2.830
Non-Profit Organizations without Credit Available Elsewhere | 1.875

The number assigned to this disaster for physical damage is 17299 5 and for economic injury is 17300 0.

(Catalog of Federal Domestic Assistance Number 59008)

Barbara Carson,
Acting Associate Administrator for Disaster Assistance.

[FR Doc. 2022-00514 Filed 1-12-22; 8:45 am]

BILLING CODE 8026-03-P